DEPARTMENT OF HEALTH AND HUMAN SERVICES

Centers for Disease Control and Prevention

[Program Announcement 03052]

Building Capacity To Address Emerging Infectious Diseases in the Americas; Notice of Intent To Fund Single Eligibility Award

A. Purpose

The Centers for Disease Control and Prevention (CDC) announces the intent to fund fiscal year (FY) 2003 funds for a cooperative agreement program for Building Capacity to Address Emerging Infectious Diseases in the Americas. The purpose of the program is to implement a coordinated plan to assist national governments and regional authorities in the Americas to better address infectious diseases. Specific activities will focus on improving surveillance and response, building public health infrastructure, promoting applied research activities, and developing improved infectious disease prevention and control strategies. The Catalog of Federal Domestic Assistance number for this program is 93.283.

B. Eligible Applicant

Assistance will be provided only to the Pan American Health Organization (PAHO).

PAHO is the only international/intergovernmental agency qualified to conduct the activities (improve infectious disease surveillance and response, develop infectious disease prevention and control strategies, build public health infrastructure and promote applied research activities in the Americas) under this cooperative agreement for the following reasons:

1. PAHO is the one single health organization that represents all countries in the Americas Region. It began as the International Sanitary Bureau, established in 1902 by the International Conference of American States to serve as “a general convention of representatives of the health organizations of the different American republics.” In 1924, the 21 American republics assigned broader functions and responsibilities to the International Sanitary Bureau as the central coordinating agency for international health activities in the Americas. PAHO continues in this role for countries in North, Central, and South America, including the Caribbean nations.

2. PAHO has access to national health promotion and disease prevention programs and potential research sites in the Americas through their 35 member governments, scientific and technical expert employees, 28 country offices, and 10 scientific centers. PAHO member countries are: Antigua and Barbuda, Argentina, Bahamas, Barbados, Belize, Bolivia, Brazil, Canada, Chile, Colombia, Costa Rica, Cuba, Dominica, Dominican Republic, Ecuador, El Salvador, Grenada, Guatemala, Guyana, Haiti, Honduras, Jamaica, Mexico, Nicaragua, Panama, Paraguay, Peru, Saint Kitts and Nevis, Saint Lucia, Saint Vincent and the Grenadines, Suriname, Trinidad and Tobago, United States of America, Uruguay, and Venezuela. PAHO maintains country offices in 28 of the above member states and is headquartered in Washington, DC.

3. Because of its unique status representing and uniting all member country health agencies, PAHO is the only appropriate “pinnacle” organization to conduct the activities under this cooperative agreement.

4. In its role as the central coordinating agency for health in the Americas, PAHO collaborates with Ministries of Health, social security agencies, other government institutions, non-governmental organizations, universities, community groups, and others in all member countries.

5. PAHO has nearly 100 years of experience working to improve health and living standards of countries of the Americas.

6. PAHO serves as the regional office for the Americas for the World Health Organization and is a component of the United Nations.

C. Funding

Approximately $500,000 is available in FY 2003 to fund this award. It is expected that the award will begin on or before May 16, 2003, and will be made for a 12-month budget period within a project period of up to five years. Funding estimates may change.

D. Where To Obtain Additional Information

For general comments or questions about this announcement, contact: Technical Information Management, CDC Procurement and Grants Office, 2920 Brandywine Road, Atlanta, GA 30341-4146, Telephone: (770) 488-2700.

For technical questions about this program, contact: Greg Jones, National Center for Infectious Diseases, Centers for Disease Control and Prevention, 1600 Clifton Road, NE., Atlanta, GA 30333, Telephone: (404) 639-4180, E-mail address: gjj1@cdc.gov.

Dated: February 28, 2003.
Sandra R. Manning,
Director, Procurement and Grants Office, Centers for Disease Control and Prevention.

[FR Doc. 03-5389 Filed 3-6-03; 8:45 am]

BILLING CODE 4163-18-P